DEPARTMENT OF THE INTERIOR

Bureau of Land Management

[CO-800-1430-EU; COC 71055]

Notice of Realty Action; Proposed Non-Competitive (Direct) Sale of Public Land, CO

AGENCY: Bureau of Land Management, Interior.

ACTION: Notice of Realty Action.

SUMMARY: A 40-acre parcel of public land in Archuleta County, Colorado, is being considered for direct sale to Archuleta County under the provisions of the Federal Land Policy Management Act of 1976 (FLPMA) at no less than the appraised fair market value.

DATES: In order to ensure consideration in the environmental analysis of the proposed sale, comments must be received by October 1, 2007.

ADDRESSES: Address all comments concerning this Notice to Kevin Khung, Pagosa Field Manager, Bureau of Land Management, P.O. Box 310, Pagosa Springs, Colorado 81147.

FOR FURTHER INFORMATION CONTACT: Charlie Higby, Realty Specialist, BLM, 15 Burnett Court, Durango, Colorado, 81301, or phone (970) 385-1374.

SUPPLEMENTARY INFORMATION: The following-described public land is being considered for sale on a non-competitive (direct) sale basis to Archuleta County in accordance with section 203(f)(2) of the Federal Land Policy and Management Act of 1976 (FLPMA) (90 Stat. 2750; 43 U.S.C. 1713):

New Mexico Principal Meridian, Colorado

T. 35 N., R. 2 W.,

Sec. 4, NE¼SW¼.

The area described contains 40 acres in Archuleta County.

The BLM Pagosa Field Manager has determined that a non-competitive (direct) sale will be in the best interest of the public to facilitate the planned adjustment of the Archuleta County's landownership in the vicinity of the parcel. The parcel lacks legal public access. Regulations at 43 CFR 2711.3-3(a)(2) implementing FLPMA authorize the use of direct sales of public lands in situations where a public land parcel is identified for transfer to a State or local government or the parcel is an integral part of a project and speculative bidding could jeopardize successful completion.

The parcel is not required for any Federal purposes. The BLM 1985 San Juan/San Miguel Resource Management Plan identified this parcel of public land as suitable for disposal. Conveyance of title to the parcel will be subject to valid existing rights and encumbrances of record, including but not limited to, rights-of-way for roads and public utilities. Conveyance of any mineral interests pursuant to section 209 of the FLPMA will be analyzed during processing of the proposed sale.

On August 17, 2007, the above-described land will be segregated from appropriation under the public land laws, including the mining laws, except the sale provisions of the FLPMA. The segregative effect will terminate upon issuance of a patent, publication in the Federal Register of a termination of the segregation, or August 17, 2009, unless extended by the BLM State Director in accordance with 43 CFR 2711.1-2(d) prior to this date, whichever occurs first.

Public Comments

For a period until October 1, 2007, interested parties and the general public may submit in writing any comments concerning the land being considered for sale, including notification of any encumbrances or other claims relating to the parcel, to Kevin Khung, Pagosa Field Manager, BLM Pagosa Field Office, at the above address. In order to ensure consideration in the environmental analysis of the proposed sale, comments must be in writing and postmarked or delivered on or before October 1, 2007. Comments transmitted via e-mail will not be accepted.

Before including your address, phone number, e-mail address, or other personal identifying information in your comment, you should be aware that your entire comment—including your personal identifying information—may be made publicly available at any time. While you can ask us in your comment to withhold your personal identifying information from public review, we cannot guarantee that we will be able to do so.

Comments, including names and street addresses of respondents, will be available for public review at the BLM Pagosa Field Office during regular business hours, except holidays.

(Authority: 43 CFR 2711.1-2)

Kevin Khung,
Pagosa Field Manager.

[FR Doc. E7-16202 Filed 8-16-07; 8:45 am]

BILLING CODE 4310-JB-P